DEPARTMENT OF JUSTICE

8 CFR Part 3 and 28 CFR Part 0

[EOIR No. 129F; AG Order No. 2512-2001]

RIN 1125-AA34

Executive Office for Immigration Review; Board of Immigration Appeals; 23 Board Members

AGENCY: Executive Office for Immigration Review, Justice.

ACTION: Final rule.

SUMMARY: This final rule amends 8 CFR part 3 and 28 CFR part 0 by adding to the Board of Immigration Appeals (Board) two Board Member positions, thereby expanding the Board to 23 permanent members. The Board is being expanded in order to maintain an effective, efficient system of appellate adjudication in the face of the Board's increasing caseload.

EFFECTIVE DATE: This final rule is effective September 12, 2001.

FOR FURTHER INFORMATION CONTACT: Charles Adkins-Blanch, General Counsel, Executive Office for Immigration Review, Suite 2400, 5107 Leesburg Pike, Falls Church, VA 22041; telephone (703) 305-0470.

SUPPLEMENTARY INFORMATION: This final rule expands the Board to 23 permanent members by adding two Board Member positions. With this change, the Board will consist of a Chairman, two Vice Chairmen, and twenty other members. This change is necessary to maintain an effective, efficient system of appellate adjudication in light of the Board's increasing caseload. This rule amends 8 CFR part 3 and 28 CFR part 0 to reflect these changes in the Board's organization.

Compliance with 5 U.S.C. 553 as to notice of proposed rulemaking is not required because this rule relates to agency organization, procedure, and practice, and a delayed effective date is unnecessary because it does not substantially affect the rights or obligations of non-agency parties. See 5 U.S.C. 553(b)(a), (d)(3).

Regulatory Flexibility Act

The Attorney General, in accordance with 5 U.S.C. 605(b), has reviewed this rule and, by approving it, certifies that it will not have a significant economic impact on a substantial number of small entities.

Unfunded Mandates Reform Act of 1995

This rule will not result in the expenditure by State, local, and tribal governments, in the aggregate, or by the private sector, of $100 million or more in any one year, and it will not significantly or uniquely affect small governments. Therefore, no actions were deemed necessary under the provisions of the Unfunded Mandates Reform Act of 1995.

Small Business Regulatory Enforcement Fairness Act of 1996

This rule is not a major rule as defined by section 251 of the Small Business Regulatory Enforcement Fairness Act of 1996, 5 U.S.C. 804. This rule will not result in an annual effect on the economy of $100 million or more; a major increase in costs or prices; or significant adverse effects on competition, employment, investment, productivity, innovation, or on the ability of United States-based companies to compete with foreign-based companies in domestic and export markets.

Executive Order 12866

The Department of Justice has determined that this rule is not a “significant regulatory action” under Executive Order 12866, section 3(f). Accordingly, this rule has not been reviewed by the Office of Management and Budget.

Executive Order 13132

This rule will not have substantial direct effects on the States, on the relationship between the national government and the States, or on the distribution of power and responsibilities among the various levels of government. Therefore, in accordance with section 6 of Executive Order 13132, the Department of Justice has determined that this rule does not have sufficient federalism implications to warrant the preparation of a federalism summary impact statement.

Executive Order 12988: Civil Justice Reform

This rule meets the applicable standards set forth in sections 3(a) and 3(b)(2) of Executive Order 12988.

Congressional Review Act

This action pertains to agency organization, practice, and procedure and does not substantially affect the rights or obligations of non-agency parties and, accordingly, is not a “rule” as that term is used by the Congressional Review Act. (Subtitle E of the Small Business Regulatory Enforcement Act of 1996 (SBREFA). Therefore, the reporting requirement of 5 U.S.C. § 801 does not apply.

Plain Language Instructions

We try to write clearly. If you can suggest how to improve the clarity of these regulations, call or write Charles Adkins-Blanch, General Counsel, Executive Office for Immigration Review, Suite 2400, 5107 Leesburg Pike, Falls Church, VA 22041; telephone (703) 305-0470.

List of Subjects

8 CFR Part 3

Administrative practice and procedure, Immigration, Lawyers, Organizations and functions (Government agencies), Reporting and recordkeeping requirements.

28 CFR Part 0

Authority delegation (Government agencies), Government employees, Organization and functions (Government agencies), Whistleblowing.

Accordingly, for the reasons set forth in the preamble, part 3 of chapter I of title 8 of the Code of Federal Regulations and part 0 of chapter I of title 28 of the Code of Federal Regulations are amended as follows:

PART 3—EXECUTIVE OFFICE FOR IMMIGRATION REVIEW

1. The authority citation for 8 CFR part 3 continues to read as follows:

Authority: 5 U.S.C. 301; 8 U.S.C. 1103; 1252 note, 1252b, 1324b, 1362; 28 U.S.C. 509, 510, 1746; sec. 2, Reorg. Plan No. 2 of 1950, 3 CFR, 1949-1953 Comp., p. 1002.

Subpart A—Board of Immigration Appeals

§ 3.1 [Amended]

2. In § 3.1, amend paragraph (a)(1) by revising the second sentence to read as follows:

* * * The Board shall consist of a Chairman, two Vice Chairmen, and twenty other members. * * *

* * * * *

PART 0—ORGANIZATION OF THE DEPARTMENT OF JUSTICE

3. The authority citation for 28 CFR part 0 continues to read as follows:

Authority: 5 U.S.C. 301; 28 U.S.C. 509, 510, 515-519.

Subpart U—Executive Office for Immigration Review

4. Amend § 0.116 by revising the first sentence to read as follows:

§ 0.116 Board of Immigration Appeals.

The Board of Immigration Appeals shall consist of a Chairman, two Vice Chairmen, and twenty other members. * * *

* * * * *

Dated: September 6, 2001.
John Ashcroft,
Attorney General.

[FR Doc. 01-22906 Filed 9-11-01; 8:45 am]

BILLING CODE 4410-30-P